ENVIRONMENTAL PROTECTION AGENCY

40 CFR Part 300

[FRL-7050-7]

National Oil and Hazardous Substance; Pollution Contingency Plan; National Priorities List

AGENCY: Environmental Protection Agency.

ACTION: Notice of intent to delete the Alsco Anaconda Superfund Site from the National Priorities List.

SUMMARY: The Environmental Protection Agency, (EPA) Region V is issuing a notice of intent to delete the Alsco Anaconda Superfund Site (Site) located in Gnadenhutten, Ohio, from the National Priorities List (NPL) and requests public comments on this notice of intent to delete. The NPL, promulgated pursuant to section 105 of the Comprehensive Environmental Response, Compensation, and Liability Act (CERCLA) of 1980, as amended, is found at Appendix B of 40 CFR part 300 which is the National Oil and Hazardous Substances Pollution Contingency Plan (NCP). The EPA and the State of Ohio, through the Ohio Environmental Protection Agency, have determined that all appropriate response actions under CERCLA have been completed. However, this deletion does not preclude future actions under Superfund. In the “Rules and Regulations” Section of today's Federal Register, we are publishing a direct final notice of deletion of the Alsco Anaconda Superfund Site without prior notice of intent to delete because we view this as a non-controversial revision and anticipate no adverse comment. We have explained our reasons for this deletion in the preamble to the direct final notice of deletion. If we receive no adverse comment(s) on the direct final notice of deletion, we will not take further action. If we receive timely adverse comment(s), we will withdraw the direct final notice of deletion and it will not take effect. We will, as appropriate, address all public comments in a subsequent final deletion notice based on adverse comments received on this notice of intent to delete. We will not institute a second comment period on this notice of intent to delete. Any parties interested in commenting must do so at this time. For additional information, see the direct final notice of deletion which is located in the Rules section of this Federal Register.

DATES: Comments concerning this Site must be received by October 9, 2001.

ADDRESSES: Written comments should be addressed to: Bri Bill, Community Involvement Coordinator, U.S. EPA (P-19J), 77 W. Jackson, Chicago, IL 60604, 312-353-6646 or 1-800-621-8431.

FOR FURTHER INFORMATION CONTACT: Rosauro del Rosario, Remedial Project Manager at (312) 886-6195, or Gladys Beard, Associate Remedial Project Manager at (312) 886-7253 or 1-800-621-8431, Superfund Division, U.S. EPA (SR-6J), 77 W. Jackson, IL 60604.

SUPPLEMENTARY INFORMATION: For additional information, see the Direct Final Notice of Deletion which is located in the Rules section of this Federal Register.

Information Repositories: Repositories have been established to provide detailed information concerning this decision at the following address: EPA Region V Library, 77 W. Jackson, Chicago, IL 60604, (312) 353-5821, Monday through Friday 8 a.m. to 4 p.m.; Gnadenhutten Public Library, P.O. Box 216, 160 N. Walnut St., Gnadenhutten, OH 44629, (704) 254-9224, Monday through Thursday 9 a.m. to 8 p.m., Friday 9 a.m to 5 p.m. and Saturday 9 a.m. to 5 p.m.; Ohio Environmental Protection Agency-Southeast District Office, 2195 Front Street, Logan, Ohio 43138, (740) 385-8501, Monday through Friday, 8 a.m. to 5 p.m.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: August 28, 2001.
Norman Niedergang,
Acting Regional Administrator, U.S. EPA Region V.

[FR Doc. 01-22369 Filed 9-5-01; 8:45 am]

BILLING CODE 6560-50-P